ENVIRONMENTAL PROTECTION AGENCY

[FRL-7892-5]

Notice of Request for Proposals for Projects To Be Funded From the Water Quality Cooperative Agreement Allocation (CFDA 66.463—Water Quality Cooperative Agreements)

AGENCY: Environmental Protection Agency (EPA).

ACTION: Notice.

SUMMARY: EPA Region 6 is soliciting proposals from eligible applicants interested in applying for Federal assistance for Water Quality Cooperative Agreements (WQCA) under the Clean Water Act (CWA) Section 104(b)(3). Funding is for projects conducted within the states of Arkansas, Louisiana, New Mexico, Oklahoma and Texas. Region 6 EPA intends to award an estimated $700,000 to eligible applicants through assistance agreements ranging in size, on average, from $40,000 up to $200,000 (Federal) for innovative projects/demonstrations/studies relating to the prevention, reduction, and elimination of water pollution. From the proposals received, EPA estimates up to 4 to 7 projects may be selected to submit full applications. The Agency reserves the right to reject all proposals and make no awards.

DATES: EPA will consider all proposals received on or before 5 p.m. Central Standard Time May 16, 2005. Proposals received after the due date will not be considered for funding.

ADDRESSES: Proposals should be mailed to: Terry Mendiola (6WQ-AT), U.S. Environmental Protection Agency, Region 6, Water Quality Protection Division,1445 Ross Avenue, Dallas, Texas 75202-2733. Overnight delivery may be sent to the same address.

FOR FURTHER INFORMATION CONTACT: Terry Mendiola by telephone at 214-665-7144 or by e-mail at mendiola.teresita@epa.gov.

SUPPLEMENTARY INFORMATION:

Required Overview Content:

Federal Agency Name—Environmental Protection Agency, Region 6, Water Quality Protection Division, State Tribal Programs Section.

Funding Opportunity Title—Water Quality Cooperative Agreements.

Announcement Type—Initial announcement.

Catalog of Federal Domestic Assistance (CFDA) Number—CFDA 66.463—Water Quality Cooperative Agreements.

DATES: May 16, 2005—Proposals due to EPA.

June 28, 2005—Initial approvals identified and sponsors of projects selected for funding will be requested to submit a formal application package.

I. Funding Opportunity Description

EPA Region 6's Water Quality Protection Division is requesting proposals from eligible applicants for unique and innovative projects that address watershed-based permitting, water quality trading, water quality modeling training, water quality standards development and refinement, the Illinois River watershed in Arkansas and Oklahoma, and nutrient criteria.

Funding is authorized under the provisions of the CWA Section 104(b)(3), 33 U.S.C. 1254(b)(3). The regulations governing the award and administration of WQCAs are in 40 CFR part 30 (for institutions of higher learning, hospitals, and other nonprofit organizations) and 40 CFR part 31 (for States, local governments, and interstate agencies).

An organization whose proposal is selected for possible Federal assistance must complete an EPA Application for Assistance, including the Federal SF-424 form (Application for Federal Assistance, see 40 CFR 30.12 and 31.10).

High Priority Areas for Funding Consideration

WQCAs awarded under section 104(b)(3) may only be used to conduct and promote the coordination and acceleration of activities such as research, investigations, experiments, training, education, demonstrations, surveys, and studies relating to the causes, effects, extent, prevention, reduction, and elimination of water pollution. These activities, while not defined in the statute, advance the state of knowledge, gather information, or transfer information. For instance, “demonstrations” are generally projects that demonstrate new or experimental technologies, methods, or approaches and the results of the project will be disseminated so that others can benefit from the knowledge gained. A project that is accomplished though the performance of routine, traditional, or established practices, or a project that is simply intended to carry out a task rather than transfer information or advance the state of knowledge, however worthwhile the project may be, is not a demonstration. Research projects may include the application of the practices when they contribute to learning about an environmental concept or problem.

The EPA Water Quality Management Division in Region 6 has identified six priority areas for funding consideration. These priorities reflect EPA's Strategic Goal 2. Clean and Safe Water, Subobjective 2.2.1 Improve Water Quality on a Watershed basis. EPA will award WQCAs for research, investigations, experiments, training, demonstrations, surveys and studies related to the causes, effects, extent, prevention, reduction, and elimination of water pollution in the subject areas shown below in bold. Funding will be awarded only for the areas as described below.

Watershed-Based Permitting

Watershed-based National Pollutant Discharge Elimination System (NPDES) permitting is a process that emphasizes addressing all stressors within a hydrologically-defined drainage basin. The proposal must include the development of a watershed-based NPDES permitting strategy for a watershed within Region 6. The strategy should consider cumulative impacts to water quality over the entire watershed and develop an efficient permitting methodology. The watershed-based permitting strategy should be flexible to account for unique watershed characteristics and can be utilized for other watersheds in the Region. The strategy should comply with the December, 2003, Watershed-Based National Pollutant Discharge Elimination System Permitting Implementation Guidance and validated through the appropriated NPDES permitting authority to ensure the strategy is credible. This effort should help develop and issue NPDES permits that better protect entire watersheds.

Water Quality Trading

Water quality trading is an approach that offers greater efficiency in achieving water quality goals on a watershed basis. The proposal must identify opportunities and develop a credible and successful framework for water quality trading programs for nutrients at reduced costs in a Region 6 watershed. The framework should identify the watershed in Region 6, the suitability of pollutants for trading, the criteria and financial attractiveness based on current and future market analysis. The trading framework must be in accordance with EPA's January 13, 2003, Water Quality Trading Policy and integrate the permitting needs for potential development of an NPDES permit. The development of a water quality trading approach should improve and preserve water quality.

Cross-Program Training on Water Quality Modeling

The Total Maximum Daily Load (TMDL), NPDES, Assessment and Monitoring, Watershed Protection, Non-point Source (NPS), and Grant Support Programs are trying to better integrate efforts to develop TMDLs using water quality models and implementation of TMDLs through the NPDES and NPS programs. However, little cross-program coordination, related to water quality model activities, is available to regulators and TMDL and NPDES developers, which results in resource duplication, missed opportunities for innovative approaches to resolution, and mis-communication of intent. A cross-program training for TMDL and wasteload allocation (WLA) models for the Region 6 States is needed to help alleviate this issue. The training program should include the water quality models, TMDL process, TMDL sampling and modeling quality assurance project plans used by EPA and the Region 6 States for developing TMDLs for the 303(d) listed waterbodies and wasteload allocations for point sources. Successful completion of this training program would provide Region 6 States avenues to better coordinate resources and investigate innovative resolutions to water quality issues, especially at the watershed level, in support of State and National goals to reduce impaired waters in those states.

Water Quality Standards Development and Refinement

Research and/or studies leading to the development and refinement of waterbody classification systems, narrative or numeric criteria, and antidegradation policies.

Illinois River Watershed in Arkansas and Oklahoma

Research and/or studies leading to an improved characterization of water quality conditions in the Illinois River relative to the goals of the CWA. Preference will be given to proposals submitted by multiple entities within the watershed that offer the potential to resolve differences in water quality standards and assessment methods.

Nutrient Criteria

Development of effects based nutrient criteria and assessment methods, based on the relationship(s) between evidence of impairment of biological integrity, and/or other response indicators, and instream nutrient concentrations observed at reference waterbodies.

II. Award Information

Region 6 EPA intends to award an estimated $700,000 to eligible applicants through assistance agreements ranging in size, on average, from $40,000 up to $200,000 (Federal). From the proposals received, EPA estimates up to 4 to 7 projects may be selected to submit full applications. The average size of an award is anticipated to be approximately $100,000. Awards will be made in the late summer of 2005. Typically, the project and budget period for these awards is one to two years, with an average of about two years. Organizations who have an existing agreement under this program are eligible to compete for new awards, including supplementation to existing projects.

It is expected that all the awards under this program will be cooperative agreements. States and interstate agencies meeting the requirements in 40 CFR 35.504 may include the funds for WQCA in a Performance Partnership Grant (PPG) in accordance with the regulations governing PPGs in 40 CFR part 35, subparts A and B. For states and interstate agencies that choose to do so, the regulations provide that the workplan commitments that would have been included in the WQCA must be included in the PPG workplan.

A description of the Agency's substantial involvement in cooperative agreements will be included in the final agreement.

III. Eligibility Information

1. Eligible Applicants

Eligible applicants for assistance agreements under section 104(b)(3) of the CWA are State water pollution control agencies, interstate agencies, other public or nonprofit agencies, institutions, organizations, and other entities as defined by the CWA. The Tribal Water Quality Programs Request for Proposals will be issued under a separate notice. Proposals received for projects outside of Region 6 will not be considered.

2. Cost Sharing or Matching

A minimum match of five percent will be required for all approved projects and should be included in the total funding requested for each proposal submitted.

3. Threshold Eligibility Criteria

Proposals to purchase land, perform construction, fail to conform to the submission requirements of this notice, or appear to be from a for-profit organization will not be reviewed and considered.

Additionally, the priority specific criteria listed below will also be considered threshold eligibility criteria. To be eligible to compete for funding, ALL PRIORITY SPECIFIC CRITERIA MUST BE ADDRESSED/MET for the priority area in which it was submitted.

The following threshold eligibility criteria will be used to evaluate the subject priority area:

Watershed-Based Permitting, specifically, the development of a watershed-based NPDES permitting strategy for a watershed within Region 6. The following specific criteria will be used to determine eligibility for this priority area:

• The project should identify the watershed within EPA Region 6 State(s).

• Strategy should establish goals such as flow, concentrations and pollutant loads for the watershed.

• Identify water quality parameters and compile existing data of the identified parameters of concern.

• Identify strong community partnership with State entities, industries, and municipalities to adopt watershed-basin permitting approach.

• Develop a template for watershed-based permitting strategy that can be transferable to other watersheds within the state and potentially to other Region 6 States.

Water Quality Trading, specifically, identification of opportunities and development of a credible and successful framework for water quality trading programs for nutrients at reduced costs in a Region 6 watershed. The following specific criteria will be used to determine eligibility for this priority area:

• The framework should describe the legal mechanisms to facilitate trading.

• The specific nutrients should be identified which are suitable for trading on a watershed basis.

• Framework should clearly define the units of trade necessary for trading to occur.

• Framework must create and establish the duration of credits generated to comply with a monthly, seasonal or annual limitation.

• Develop procedures to account for the generation and use of credits in NPDES permits and discharge monitoring reports in order to track the generation and use of credits between sources and assess compliance.

• Include provisions to ensure the framework incorporates an enforcement mechanism.

• Framework must define a public participation process and public access process.

• The framework must describe the program evaluation process.

Cross-Program Training on Water Quality Modeling, specifically, development of a cross-program training for TMDL and WLA models for Region 6 States. The following specific criteria will be used to determine eligibility for this priority area:

• The project should investigate and select the water quality models used by EPA and Region 6 States.

• Demonstrate that the water quality models, training materials, tools and approaches are effective in developing TMDLs and WLAs by providing at least one training session for each EPA Region 6 State.

• Apply the current EPA and Region 6 States' water quality models and related regulations, polices and guidance.

• The training program should integrate the water quality modeling needs for the TMDL and the NPDES programs in EPA Region 6.

Water Quality Standards Development and Refinement, specifically, research and/or studies leading to the development and refinement of waterbody classification systems, narrative or numeric criteria, and antidegradation policies. The following specific criteria will be used to determine eligibility for this priority area:

• Demonstrate approaches or provide tools that may be applied in other areas.

• Apply the latest scientific approaches or innovative techniques to establish and validate the relationship(s) between pollutant concentrations and response indicators.

• Result in recommendations that can be applied to a class of waters, rather than individual waters.

• Results in the development of water quality standards and assessment methods that will be adopted by the appropriate state water quality agency.

Illinois River Watershed in Arkansas and Oklahoma, specifically, research and/or studies leading to an improved characterization of water quality conditions in the Illinois River relative to the goals of the CWA. Preference will be given to proposals submitted by multiple entities within the watershed that offer the potential to resolve differences in water quality standards and assessment methods. The following specific criteria will be used to determine eligibility for this priority area:

• Evaluation of relationships between designated use attainment and water quality conditions.

• Results in specific recommendations for changes in water quality management practices or processes, land use practices, best management practice implementation, or other corrective actions needed to meet the goals of the CWA.

Nutrient Criteria, specifically, the development of effects based nutrient criteria and assessment methods, based on the relationship(s) between evidence of impairment of biological integrity, and/or other response indicators, and instream nutrient concentrations observed at reference waterbodies. The following specific criteria will be used to determine eligibility for this priority area:

• Apply the latest scientific approaches or innovative techniques to establish and validate the relationship(s) between elevated nutrient concentrations and indicator response.

• Result in recommendations for numeric water quality criteria standards or criteria that can be applied to a class of waters (rather than individual waters).

• Demonstrate approaches or provide tools that may be applied in other areas.

• Include mechanisms for technology transfer.

4. Timing of Eligibility

The applicant must be eligible for award consideration at the time of proposal submission.

IV. Application and Submission Information

1. Address To Submit Proposals

Applicants may submit proposals only in hard copy. Proposals should be mailed to: Terry Mendiola (6WQ-AT), U.S. Environmental Protection Agency, Region 6, Water Quality Protection Division, 1445 Ross Avenue, Dallas, Texas 75202-2733. Overnight Delivery may be sent to the same address. Please mail three copies of the proposal(s).

Full application packages should not be submitted at this time; Region 6 is only requesting proposals. Proposal format and content is included below. Upon notification of final selections, applicants will be instructed how financial assistance application packages can be obtained.

2. Proposal Format and Contents

Proposals should be no more than four pages with a minimum font size of 10 pitch in Wordperfect/Word or equivalent. Pages in excess of four will not be considered. Failure to follow the format or to include all requested information will result in the proposal not being considered for funding. It is recommended that confidential information not be included in this proposal. The following format should be used for all proposals:

Name of Project:

Priority Area Addressed: Only one priority area should be listed. If more than one addressed, select most pertinent. (i.e., Watershed Based Permitting, Water Quality Trading, Nutrient Criteria, etc.)

Point of Contact: (Individual and Agency/Organization Name, Address, Phone Number, Fax Number, E-mail Address)

Is This a Continuation of a Previously Funded Project (if so, please provide the status of the current grant or cooperative agreement):

Proposed Federal Amount:

Proposed Non-Federal Match (minimum of 5%):

The match is based on the total project cost not the Federal amount. To determine a proposed minimum match of 5%, use the following example:

Federal amount = $25,000

Total Project Cost = T

The Federal amount is 95% of T, therefore:

$25,000 = T x 0.95

$25,000/0.95 = T

$26,316 = T (round the decimal)

If the total project cost is $26,316, then:

$26,316 × 0.05 = $1,316 non-Federal match

Proposed Total Award Amount:

Description of General Budget Proposed To Support Project:

Project Description: (Should not exceed three pages of single-spaced text)

Expected Accomplishments or Product, With Dates, and Interim Milestones: This section should also include a discussion of a communication plan for distributing the project results to interested parties.

Environmental Results and Outcomes:

Describe Applicant's Capability To Perform Work:

Describe How the Project Meets the Evaluation Criteria Specified in Section V. Application Review Information:

3. Submission Dates and Times

EPA will consider all proposals received on or before 5 p.m. Central Standard Time May 16, 2005. Proposals received after the due date will not be considered for funding.

4. Intergovernmental Review

Executive Order 12372, Intergovernmental Review of Federal Programs may be applicable to awards, resulting from this announcement. Applicants selected for funding may be required to provide a copy of their proposal to their State Point of Contact (SPOC) or the States where the project will be conducted for review, pursuant to Executive Order 12372, Intergovernmental Review of Federal Programs. This review is not required with the proposal.

5. Funding Restrictions

The following information should be considered in developing proposal(s):

• Construction projects, except for the construction required to carry out a demonstration project, and acquisition of land are not eligible for funding under this program.

• New or on-going programs to implement routine environmental controls will not be considered for funding under this program.

• Funding is for projects conducted within the states of Arkansas, Louisiana, New Mexico, Oklahoma and Texas.

• It is encouraged that indirect cost be limited to 15 percent.

• Although proposals may meet more than one of the priority areas listed in Section I. Funding Opportunity Description, select most pertinent and identify that priority area in the proposal format.

6. Proprietary Information Identification

EPA recommends that no confidential information be included in proposals. However, in accordance with 40 CFR 2.203, applicants may claim all or a portion of their application/proposal as confidential business information. EPA will evaluate confidentiality claims in accordance with 40 CFR part 2. Applicants must clearly mark applications/proposals or portions of applications/proposals they claim as confidential. If no claim of confidentiality is made, EPA is not required to make the inquiry to the applicant otherwise required by 40 CFR 2.204(c)(2) prior to disclosure.

V. Application Review Information

1. Criteria

EPA Region 6 will award WQCA on a competitive basis and evaluate proposals based on the criteria detailed below (maximum points for each element are shown). In addition to the selection criteria detailed below, other factors as geographic diversity, programmatic priorities, project diversity and program diversity may be considered in selecting proposals for award. The following criteria will be used to evaluate each eligible proposal:

• The adequacy of proposal to meet priority specific criteria (Section III. 3.). (25)

• The extent to which the proposed project uses innovative techniques that effectively leads to the protection of water quality as identified by the priorities in this notice (Section I.). These priorities reflect EPA's Strategic Goal 2. Clean and Safe Water, Subobjective 2.2.1 Improve Water Quality on a Watershed Basis. (20)

• The extent to which the results of the proposed project, or tools developed, can be transferred to others and the quality of the communication strategy to actually achieve transfer. (10)

• The realistic expectation that meaningful environmental benefit will result from the proposed work, and the quality of the evaluation component to assess or measure the environmental outcome(s). This may include projects that improve program integrity or efficiency as well as those with direct environmental benefits. (20)

• The capability of the applicant to effectively perform and complete the tasks and deliver the products of the project or activity, as well as the capability to effectively manage the cooperative agreement. (10)

• Cost effectiveness and reasonableness of the proposal. (10)

• Applicant's past performance, if applicable. (5)

2. Review and Selection Process

Each eligible proposal will be evaluated and ranked by a panel comprised of several EPA Region 6 employees. Members of the review panel will base their evaluation on the selection criteria disclosed in this notice (Section V.1). Final selection of proposals will be made by the Director of the Water Quality Protection Division, EPA Region 6.

VI. Award Administration Information

1. Award Notices

Selected organizations will be notified in writing and requested to submit full applications. Applications, including workplans, are subject to EPA review and approval. It is expected that unsuccessful applicants will be notified in writing. EPA reserves the right to withdraw the funding offer if a complete application (including an approved QMP) is not received within four months of selection notice.

2. Administrative and National Policy Requirements

Applicants whose proposals contemplate contracting for services or products must comply with applicable regulations relating to competitive procurement and preparation of cost or price analyses in accordance with 40 CFR 30.40 through 30.48 (for institutions of higher learning, hospitals, and other nonprofit organizations) and 40 CFR 31.36 (for States, local governments, and interstate agencies). Identifying a contractor in a proposal does not exempt the applicant from these requirements and gives the appearance that the proposal is from a for-profit organization. As stated in Section III. Eligibility Information, proposals that appear to be from a for-profit organization will not be reviewed or considered. Applicants requested to submit a full application will be required to confirm compliance with competitive procurement procedures.

Additionally, applicants requested to submit a full application will be required to comply with the Quality Assurance requirements (40 CFR 30.54 and 31.45) if projects involve environmentally related measurements or data generation. Prior to award, a Quality Management Plan must be submitted and approved by EPA.

Applicants must provide a Dun and Bradstreet (D&B) Data Universal Numbering System (DUNS) number with the full application. Organizations may obtain the number by calling, toll free, 1-866-705-5711.

Applicants requested to submit a full application may incur pre-award costs 90 calendar days prior to award provided such costs are included in the application, the costs meet the definition of pre-award costs and are approved by EPA. Pre-award costs are those costs incurred prior to the effective date of the award directly pursuant to the negotiation and in anticipation of the award where such costs are necessary to comply with the proposed delivery schedule or period of performance and are in conformance with the appropriate statute and cost principles. The approval of pre-award costs should be reflected in the budget period on the assistance agreement and if applicable, under a term and condition of the assistance agreement. Recipients incur pre-award costs at their own risk (i.e., EPA is under no obligation to reimburse such costs if for any reason the recipient does not receive an award or if the award is less than anticipated and inadequate to cover such costs).

Assistance agreement competition-related disputed will be resolved in accordance with the dispute resolution procedures published in 70 FR 3629, 3630 (January 26, 2005) which can be found at: http://a257.g.akamaitech.net/7/257/2422/01jan20051800/edocket.access.gpo.gov/2005/05-1371.htm. Copies may also be requested by contacting the Agency Contact below.

3. Reporting

Post award reporting requirements include, at a minimum, submission of semi-annual project status reports with submission of a final report prior to the end of the budget/project period. Recipients will be required to report direct and indirect environmental benefits that result from the work accomplished through the cooperative agreement award. Means of submission and report format will be negotiated in the workplan.

VII. Agency Contacts

Point of Contact: Terry Mendiola by telephone at 214-665-7144 or by e-mail at mendiola.teresita@epa.gov.

VIII. Other Information

This Federal Register Notice will be posted on the Region 6 Water Quality Protection Division, Assistance Programs Branch Web site http://www.epa.gov/earth1r6/6wq/at/sttribal.htm. This Web site may also contain additional information about this request. Deadline extensions, if any, will be posted on this web site and not in the Federal Register. A list of selected projects will also be posted to this Web site.

Dated: March 23, 2005.
Miguel I. Flores,
Director, Water Quality Protection Division, Region 6.

[FR Doc. 05-6300 Filed 3-29-05; 8:45 am]

BILLING CODE 6560-50-P